DEPARTMENT OF TRANSPORTATION

Office of the Secretary

Notice of Weekly Applications

Notice of Applications for Certificates of Public Convenience and Necessity and Foreign Air Carrier Permits Filed Under Subpart B (formerly Subpart Q) during the week ending August 31, 2001. The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-2001-10529.

Date Filed: August 29, 2001.

Due Date for Answers, Conforming Applications, or Motion to Modify Scope: September 20, 2001.

Description: Application of Arizona Express Airlines, Inc., pursuant to 49 U.S.C. Section 41738, requesting authority to engage in scheduled passenger service operations as a commuter and proposes to operate two scheduled, non-stop, round-trip flights daily between Show Low and Phoenix, Arizona.

Dorothy Y. Beard,
Federal Register Liaison.

[FR Doc. 01-23321 Filed 9-18-01; 8:45 am]

BILLING CODE 4910-62-P